DEPARTMENT OF TRANSPORTATION

Federal Aviation Administration

14 CFR Part 71

[Docket No. FAA-2003-16457; Airspace Docket No. 03-ASO-4]

RIN 2120-AA66

Proposed Revision of VOR Federal Airway V-521

AGENCY: Federal Aviation Administration (FAA), DOT.

ACTION: Notice of proposed rulemaking, (NPRM).

SUMMARY: This action proposes to revise a segment of Very High Frequency Omnidirectional Range (VOR) Federal Airway (V-521), in the vicinity of Fort Myers, FL, between the Lee County Very High Frequency Omnidirectional Range/Tactical Air Navigation (VORTAC), and the RINSE intersection (a navigation fix on V-521 that is formed by an intersection of radials from the Lee County and Labelle VORTACs). Specifically, this action would change the alignment of that segment of the airway from the Lee County VORTAC 014° (T) radial to the 012° (T) radial. This action would support a new standard terminal arrival route (STAR) serving the Southwest Florida International Airport and the Page Field Airport at Fort Myers, FL.

DATES: Comments must be received on or before March 1, 2004.

ADDRESSES: Send comments on this proposal to the Docket Management System, U.S. Department of Transportation, Room Plaza 401, 400 Seventh Street, SW., Washington, DC 20590-0001. You must identify FAA Docket No. FAA-2003-16457, and Airspace Docket No. 03-ASO-4, at the beginning of your comments. You may also submit comments on the Internet at http://dms.dot.gov.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2003-16457, and Airspace Docket No. 03-ASO-4) and be submitted in triplicate to the Docket Management System (see ADDRESSES section for address and phone number). You may also submit comments through the Internet at http://dms.dot.gov.

Commenters wishing the FAA to acknowledge receipt of their comments on this notice must submit with those comments a self-addressed, stamped postcard on which the following statement is made: “Comments to FAA Docket No. FAA-2003-16457, and Airspace Docket No. 03-ASO-4.” The postcard will be date/time stamped and returned to the commenter.

All communications received on or before the specified closing date for comments will be considered before taking action on the proposed rule. The proposal contained in this notice may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov, or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may be examined during normal business hours at the office of the Regional Air Traffic Division, Federal Aviation Administration, Southern Region Headquarters, 1701 Columbia Avenue, College Park, Georgia 30337.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to title 14 Code of Federal Regulations (14 CFR) part 71 to revise a segment of V-521 in the vicinity of Fort Myers, FL, between the Lee County VORTAC, and the RINSE intersection (a navigation fix on V-521). Specifically, this action would change the alignment of that segment of the airway from the Lee County VORTAC 014° (T) radial to the Lee County VORTAC 012° (T) radial. This change is needed to support a new arrival route called the “RINSE ONE STAR” that is being developed to serve aircraft arriving at the Southwest Florida International Airport, and Page Field Airport in Fort Myers, FL. In conjunction with the development of the new STAR, the RINSE intersection will be relocated to a point within one mile of its current position. The proposed modification of V-521 is needed to ensure that the airway remains aligned with the RINSE intersection. These changes are the result of a comprehensive airspace redesign plan to enhance the management of aircraft operations traffic into and out of southwest Florida.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this proposed action qualifies for categorical exclusion under the National Environmental Policy Act in accordance with FAA Order 1050.1D, Policies and Procedures for Considering Environmental Impacts. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9L, Airspace Designations and Reporting Points, dated September 2, 2003, and effective September 16, 2003, is amended as follows:

Paragraph 6010(a)—Domestic VOR Federal Airways

* * * * *

V-521 (Revised)

From Dolphin, FL; INT Dolphin 318° and Lee County, FL, 099° radials; Lee County; INT Lee County 012° and Lakeland, FL, 154° radials; Lakeland; Cross City, FL; INT Cross City 287° and Marianna, FL, 141° radials; Marianna; Wiregrass, AL; INT Wiregrass 333° and Montgomery, AL, 129° radials; Montgomery; INT Montgomery 357° and Vulcan, AL, 139° radials; Vulcan.

* * * * *

Issued in Washington, DC, on January 6, 2004.
Reginald C. Matthews,
Manager, Airspace and Rules Division.

[FR Doc. 04-754 Filed 1-13-04; 8:45 am]

BILLING CODE 4910-13-P